NATIONAL FOUNDATION ON THE ARTS AND HUMANITIES

Institute of Museum and Library Services; Notice: Proposed Collection, Submission for OMB Review, Museum Survey of Public Support

SUMMARY: The Institute of Museum and Library Services (IMLS) announces the following information collection has been submitted to the Office of Management and Budget (OMB) for review and approval in accordance with the Paperwork Reduction Act of 1995 (Pub. L. 104-13, 44 U.S.C. Chapter 35). This program helps to ensure that requested data can be provided in the desired format, reporting burden (time and financial resources) is minimized, collection instruments are clearly understood, and the impact of collection requirements on respondents can be properly assessed.

A copy of the proposed information collection request can be obtained by contacting the individual listed below in the addresses section of this notice.

DATES: Written comments must be submitted to the office listed in the contact section below on or before September 24, 2007.

OMB is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Mary E. Downs, PhD, Research Officer, Institute of Museum and Library Services, 1800 M. Street, NW., 9th Floor, Washington, DC, may be reached by telephone: 202-653-4682; fax: 202-653-8625; or e-mail: mdowns@imls.gov.

SUPPLEMENTARY INFORMATION: The Institute of Museum and Library Services is an independent Federal grant-making agency authorized by the Museum and Library Services Act, 20 U.S.C. 9101, et seq. Section 210 of the Act supports IMLS' data collection and analysis role. The IMLS provides a variety of grant programs to assist the nation's museums and libraries in improving their operations and enhancing their services to the public. Museums and libraries of all sizes and types may receive support from IMLS programs.

Abstract: Congress has established the Institute of Museum and Library Services as the primary source of federal support for the nation's libraries and museums. Specifically through the Museum Services Act, as cited in the legislation (20 U.S.C. 9171), federal funds are directed to museums:

(1) To encourage and support museums in carrying out their public service role of connecting the whole of society to the cultural, artistic, historical, natural, and scientific understandings that constitute our heritage;

(2) to encourage and support museums in carrying out their educational role, as core providers of learning and in conjunction with schools, families, and communities

(3) to encourage leadership, innovation, and applications of the most current technologies and practices to enhance museum services;

(4) to assist, encourage, and support museums in carrying out their stewardship responsibilities to achieve the highest standards in conservation and care of the cultural, historic, natural, and scientific heritage of the United States to benefit future generations;

(5) to assist, encourage, and support museums in achieving the highest standards of management and service to the public, and to ease the financial burden borne by museums as a result of their increasing use by the public; and

(6) to support resource sharing and partnerships among libraries, schools, and other community organizations.

To achieve the purposes of the Museum Services Act the Institute of Museum and Library Services has established an array of discretionary grant programs administered at the national level. These programs have helped hundreds of museums around the country to better connect with the public they serve, enhance lifelong learning, and conserve tangible objects for future generations.

The Institute of Museum and Library Services, in response to its authority to conduct analyses on the impact and effectiveness of museum and library services (20 U.S.C. Chapter 72, 9108), proposes to assess the effectiveness of the systems that are currently in place to deliver state and federal public funds to museums. Effectiveness will be assessed using the purposes identified in the Museum Services Act.

Current Actions: This notice proposes clearance of the Museum Survey of Public Support. The 60-day notice for “Assessing the Effectiveness of Various Methods Used to Distribute Funds to U.S. Museums” was published in the Federal Register on June 6, 2007 (FR vol. 72, no. 108, pp. 31351-52.) One comment was received from a group of museum associations and included recommendations that the agency: Identify and study a diversity of approaches that states have used in providing financial and other resources to the museums in their state and to ensure that the study encompasses institutions of all budget sizes and disciplines; gather sound and current data about museums in the U.S., such as number of museums, the museum labor force, and number of visits annually to museums; and consider how the data it collects might help identify trends to inform decision-making by IMLS and the museum community.

OMB Number: N/A.

Agency Number: 3137.

Affected Public: Museums, libraries, State Library Administrative Agencies, institutions of higher education, not-for-profit institutions, library and museum professional associations, Native American tribal governments, State and local governments, appointed and elected officials, school officials and educators, and individuals.

Number of Respondents: 1500.

Frequency: Once.

Burden Hours per Respondent: 3.

Total Burden Hours: 500.

Contact: Comments should be sent to the Office of Information and Regulatory Affairs, Attn.: OMB Desk Officer for Education, Office of Management and Budget, Room 10235, Washington, DC 20503 (202) 395-7316.

Dated: August 16, 2007.
Barbara G. Smith,
E-Projects Officer.

[FR Doc. E7-16481 Filed 8-22-07; 8:45 am]

BILLING CODE 7036-01-P